DEPARTMENT OF LABOR

Employment and Training Administration

Notice of Availability of Funds and Solicitation for Grant Applications for the Older Worker Demonstration

Announcement Type: Notice of Solicitation for Grant Applications.

Funding Opportunity Number: SGA/DFA PY-08-06.

Catalog Federal Assistance Number: 17.268.

SUMMARY: The U.S. Department of Labor (DOL), Employment and Training Administration (ETA) announces the availability of approximately $10 million in funds for Older Worker Demonstration Grants. These grants will be awarded though a competitive process as a part of the High Growth Job Training Initiative (HGJTI). The grants are intended to address the workforce challenges facing older individuals by developing models for talent development in regional economies that recognize older workers as a valuable labor pool and include employment and training strategies to retain and/or connect older workers to jobs in high growth, high demand industries critical to the regional economy.

Grants awarded under the Older Worker Demonstration should focus on providing training and related services for individuals age 55 and older that result in employment and advancement opportunities in high growth industries and economic sectors. The proposed strategies must take place in the context of regional talent development efforts designed to contribute to a strong regional economy, and must be developed and implemented by a strategic regional partnership. The preferred eligible applicants for this solicitation are entities that represent the local workforce investment system, but other entities may apply. It is anticipated that the number of awards will range from 10 to 13, with award amounts ranging from $750,000 to $1,000,000.

This solicitation provides background information and describes the application submission requirements, outlines the process that eligible entities must use to apply for funds covered by this solicitation, and details how grantees will be selected.

Key Dates: The closing date for receipt of applications under this announcement is February 19, 2009. Applications must be received at the address below no later than 4 p.m. (Eastern Time). A Virtual Prospective Applicant Conference will be held for this grant competition in January. The date and access information for this Virtual Prospective Applicant Conference will be posted on the ETA Web site at: http://www.workforce3one.org/.

ADDRESSES: Mailed applications must be addressed to the U.S. Department of Labor, Employment and Training Administration, Division of Federal Assistance, Attention: Melissa Abdullah, Reference SGA/DFA PY-08-06, 200 Constitution Avenue, NW., Room N-4716, Washington, DC 20210. Applicants may alternatively apply on-line through Grants.gov as discussed in Part IV(C) of this solicitation. Telefacsimile (FAX) applications will not be accepted. Applicants are advised that U.S. Postal Service mail delivery in the Washington area may be delayed due to mail decontamination procedures. Hand delivered proposals will be received at the above address.

SUPPLEMENTARY INFORMATION: This solicitation consists of eight parts:

• Part I provides the funding opportunity description. It contains background on talent development in the global economy, the aging of the American workforce, and the workforce challenges faced by older individuals; provides information on the Older Worker Demonstration; and outlines the critical elements and focus areas for this solicitation.

• Part II describes the award amount and performance period for the award.

• Part III describes the eligible applicants and other grant specifications.

• Part IV provides information on the application and submission process and various funding restrictions.

• Part V describes the criteria against which applications will be reviewed and explains the review and selection process.

• Part VI provides award administration information.

• Part VII contains ETA agency contact information.

• Part VIII lists additional resources of interest to applicants and other information.

Part I. Funding Opportunity Description

A. Background

1. Talent Development in a Global Economy

Globalization of the economic marketplace is now well recognized, as is the fact that American businesses must now compete not only with companies across the street, but also with companies across the globe. Global competition is typically seen as a national challenge. In reality, regions are where companies, workers, researchers, entrepreneurs and governments come together to create a competitive advantage in the global marketplace. That advantage stems from the ability to transform new ideas and new knowledge into advanced, high quality products or services—in other words, to innovate.

Regions that are successful in creating a competitive advantage demonstrate the ability to organize “innovation assets”—people, institutions, capital, and infrastructure—to generate growth and prosperity in the region's economy. These regions are successful because they have connected three key elements: workforce skills and lifelong learning strategies, investment and entrepreneurship strategies, and regional infrastructure and economic development strategies.

In the new global economy, a region's ability to develop, attract, and retain a well educated and skilled workforce is a key factor in our nation's economic competitiveness. A region may possess a strong infrastructure and the investment resources for success, but without the talented men and women to use those elements for economic growth, they will be underutilized. Talent can also drive infrastructure and investment because investment capital is smart money and will follow talent, while infrastructure can be built to support a growing economy.

The aging of the American workforce will clearly impact a region's ability to develop, attract, and retain a well educated and skilled workforce. As regions respond to current and anticipated skills shortages and, in some industries and occupations, to labor shortages, they often overlook a key asset—the mature workforce. Older workers are an experienced and highly skilled pool of labor that can help regions meet their competitive needs.

2. Aging of the American Workforce

The United States is in the throes of a demographic metamorphosis. Currently, 12.4 percent of the U.S. population—or one in every eight persons—is over the age of 65. By the year 2030, the percentage of those ages 65 and older in the U.S. population is expected to jump to nearly 20 percent. Compounded with declining birth rates, the implications of this shift are tremendous.

The graying of America will be reflected in its workforce. The number of people in the labor force ages 55 to 64 is projected to increase by over 36 percent between 2006 and 2016, and the number of participants ages 65 to 74 is expected to grow by 83 percent. As the workforce ages, greater numbers of people will leave due to disability or retirement. More than 25 percent of the working population will reach retirement age by 2010, resulting in a potential worker shortage of nearly 10 million.

The United States therefore faces a significant challenge in meeting demands for workers over the next several years. This projected tide of retirements could significantly influence productivity and profits. Furthermore, unless the wave of retirements is more gradual than anticipated, employers not only will have fewer workers but will also have fewer leaders. In many companies, younger workers remain relatively inexperienced because of the predominance of Baby Boomers in important management and other leadership positions. The loss of older workers' critical organizational knowledge and expertise could be costly to employers.

There is some disagreement among analysts about the extent to which, or even whether, significant worker shortages will result from the aging of the workforce. However, worker shortages have already appeared in some industries, such as health care, energy, and transportation. There is also considerable evidence that many employers have not yet recognized the possible consequences of an aging workforce. It is important that all employers, but particularly those with an older workforce and those in high-growth, high-demand industries, plan how they will meet their workforce and skill needs and how they can tap into the experience and talents of the growing pool of older workers.

Possible labor and skill shortages could offer opportunities for the aging workforce, as well. Many older workers will maintain employment or become reemployed for a plethora of reasons including social interaction and a desire to achieve “productive aging” through employment. However, the most compelling motives are economic in nature. Personal savings are significantly lower than in the past, there has been an overall trend away from defined-benefit pension plans and towards defined-contribution annuities, and declining numbers of employers are offering retiree health insurance. The result will be more people continuing to work or seeking employment past traditional retirement ages.

By capitalizing on older workers' desires for continued participation in the workforce, employers can minimize job vacancies, retain important skills and knowledge, and remain competitive and productive. Such a response will place older workers in a position to increase their personal retirement savings and realize other tangible and intangible benefits that result from their continued participation in the workforce. In addition, fully utilizing the mature workforce can help regional economies maintain the educated and skilled workforce that is a key factor in global competitiveness. Finally, the U.S. economy will benefit and financial pressures will be eased on important programs like Social Security and Medicare.

3. Workforce Challenges Faced by Older Individuals

While many older individuals want to or need to stay engaged in the workforce and employers can benefit from the skills offered by aging employees, older individuals continue to face challenges to full participation in the labor market. These include the following:

Need to increase skills to keep pace with technological and organizational change and limited access to training. As a result of technological and organizational change, job requirements are continually changing. Therefore, individuals increasingly must acquire new skills and upgrade their existing skills. Older persons who wish to continue working, either in their current field or in a new field, need to remain competitive by updating their skills. In comparison to younger workers, however, older workers are less likely to receive skills training. One study found that the hours of training received decline with age—while workers ages 25 to 34 participated in an average of 37 hours of employer-provided training in a year, employees ages 55 and older participated in 9 hours.¹ Rates of training accessed through the public workforce investment system also decline with age.²

¹ Kelly S. Mikelson and Demetra Smith Nightengale, Estimating Public and Private Expenditures on Occupational Training in the United States, the Urban Institute and Johns Hopkins University, December 2004.

² David W. Stevens, Older Worker Flows Through Core, Intensive, and Training Services, and Employment Status and Earnings First Quarter After Exit, University of Baltimore Jacob France Institute, April 2004.

Health problems, disabilities and limited flexible work arrangements. Some older workers may experience health problems, have disabilities, or have physical limitations that pose challenges to employment. The job opportunities for older workers with health concerns may depend on the availability of critical health-related employee benefits. Access to these benefits—e.g., health insurance, sick leave, short- and long-term disability—varies greatly across employers. Workplace accommodations may affect the opportunities of older workers with health conditions, and some employers may not know how to make such accommodations. Additionally, as workers age, they may desire to work fewer hours or to have more flexibility in their work arrangements to facilitate improved work-life balance. Flexibility in work arrangements can encourage older individuals to remain working.

Lack of skills and confidence of some older individuals to search for a new job. To appeal to employers, older workers must identify and promote their strengths, including professional maturity, years of experience, and work ethic.³ Older workers also have a higher level of commitment and loyalty to employers, lower turnover and absenteeism rates, and fewer on-the-job accidents.⁴ However, some older individuals lack the skills and self-confidence to promote these strengths or search for jobs, and may not be familiar with the public and private resources that can aid older workers who are job hunting or changing careers.

³ Stephanie Overton, The Changing Face of Retirement, Radford University News to Use, December 2003.

⁴ Future Work Institute, Some Facts About Older Workers: Hot Topic Research, http://www.futureworkinstitute.com/services/hottopic/archetypes/HotTopics_Aging.pdf.

Lack of knowledge on how to start a business. Some older workers have been impacted by corporate downsizing, outsourcing, and job loss. For some aging workers exiting out of jobs prematurely, their most viable option may be starting their own small business. Many public and private resources are available to help individuals start their own business, but some older workers (particularly those who have been dislocated or who have very low income) may not know how to access such services.

Employer barriers to engaging older individuals and age discrimination in the workplace. The external barriers faced by older workers in obtaining employment, whether related to health, skills, or financial matters, may negatively affect employers' efforts to find qualified older candidates. Some employers may avoid developing an older workforce because of concerns over the costs of older workers due to benefits, pensions, salaries and flexibility demands. Research is beginning to show that some employers may overestimate the costs associated with employing older workers while simultaneously underestimating the benefits.

B. Older Worker Demonstration Description

Under the HGJTI, ETA is funding an Older Worker Demonstration with the objectives of: (1) Developing models for talent development in regional economies that recognize older workers as a valuable labor pool and include employment and training strategies to retain and/or connect older workers to jobs in high-growth, high-demand industries critical to the regional economy; and (2) building the capacity of the public workforce investment system to serve older individuals and identify innovative talent development models for an aging worker population.

The framework for the Older Worker Demonstration is based on three ETA initiatives—the Taskforce on the Aging of the American Workforce, the HGJTI, and the Workforce Innovation in Regional Economic Development (WIRED) Initiative.

The Taskforce on the Aging of the American Workforce is a federal interagency effort launched by ETA in 2006 to address the aging and retirement of the Baby Boomer generation and its impact on the workforce. The Taskforce brought together senior representatives from nine key federal agencies that affect the lives of older Americans and they elected to focus on three main areas: (1) Employer response to the aging workforce, focusing on the opportunities and needs of employers when recruiting, hiring, training and retaining older workers; (2) individual opportunities for employment, addressing the challenges and identifying the opportunities for older workers to increase their workforce participation; and (3) legal and regulatory issues regarding work and retirement, examining laws and regulations that may function as impediments and disincentives to continued employment.

The Taskforce worked for several months to identify and examine the most significant issues related to the aging of the American workforce, particularly workforce challenges facing older individuals, as well as working to develop strategies to address those issues. The Taskforce released its findings and recommendations in a report issued in February 2008 (available at http://www.doleta.gov/reports/dpld_older_worker.cfm). The Older Worker Demonstration is designed to address issues that limit the participation of older adults in the labor market, as identified by the Taskforce.

The HGJTI is a strategic effort to prepare workers for new and increasing job opportunities in high-growth, high-demand industries and economically vital industries and sectors of the American economy. Through the initiative, ETA identifies high-growth, high-demand industries; evaluates their skill needs; and funds local and national partnership-based demonstration projects that: (1) Address industry-specific workforce challenges, and (2) prepare workers for jobs with career pathways in rapidly expanding or transforming industries. Because of the aging workforce and potential shortages of skilled workers for high-growth, high-demand industries, it is important to find ways to better utilize older workers to meet the skill needs of these industries.

Through the WIRED Initiative, ETA supports broad regional partnerships as they expand employment and advancement opportunities for American workers and catalyze the creation of high-skill, high-wage opportunities in regional economies. WIRED supports innovative approaches to workforce and economic development that go beyond traditional strategies that prepare workers to compete and succeed. The Initiative helps regions transform their workforce investment, economic development, and education systems to support talent development and overall regional economic growth. Each regional partnership undertakes strategies customized to the particular economic challenges and opportunities of their regions and is focused on the high growth industries in that area. Although the impact of the aging workforce varies from region to region, the potential labor market impacts of the aging workforce suggest that addressing the challenges of older individuals, and fully utilizing their skills and expertise, should be a key component of regional talent development strategies.

Grants awarded under the Older Worker Demonstration should focus on providing training and related activities that result in employment and advancement opportunities in high-growth industries and economic sectors as part of a regional talent development strategy focused on economic growth. Examples of activities related to training include career awareness and outreach, strategies to promote career pathways, and activities to enhance the capacity of education and training providers. Because the grants under this solicitation are being funded by H-1B visa fees (as authorized under Sec. 414(c) of the American Competitiveness and Workforce Improvement Act of 1998), funds may only be used for projects that provide training in the occupations and industries for which employers pay H-1B visa application fees that generate these funds. (See Attachment: H-1B Industry Sectors and Occupations.) Also, the activities related to training must be limited to those necessary to support training in such occupations and industries.

In alignment with the goal of building the workforce system's capacity to serve older individuals, the preferred applicant for the Older Worker Demonstration is a legal entity that represents the local workforce investment system as follows: (1) A Local Workforce Investment Board (LWIB), as established under Section 117 of the Workforce Investment Act of 1998 (WIA) (Pub. L. 105-220), that has been incorporated; or (2) in areas where the LWIB is not incorporated, the legal entity that serves as the fiscal agent for the local workforce investment area. Other applicants for this solicitation may include: (1) A non-LWIB entity with the concurrence from the LWIB (this would require evidence of the board's support and involvement in the project along with a letter of concurrence); or (2) all other applicants without a letter of concurrence from the LWIB (such applicants must demonstrate how the proposed activities will be connected to the region's talent and economic development strategies, including improvement of services to older workers through the LWIB).

Applicants are required to have established partnerships to carry out the proposed project that could include, but are not limited to: The public workforce investment system; national, state, or local aging organizations, including Senior Community Service Employment Program (SCSEP) grantees; employers, industry associations, and business intermediaries, such as chambers of commerce; educational institutions and training providers; apprenticeship programs; economic development entities; local, regional, and state government; Indian and Native American tribes or organizations; the philanthropic community; and community and faith-based organizations.

To provide additional support to the Older Worker Demonstration, ETA will make technical assistance available to grantees after the grant awards have been made. This assistance is further described in Part I(E) of this solicitation.

C. Critical Elements of the Older Worker Demonstration

1. Strategic Partnerships

ETA is using the Older Worker Demonstration as an opportunity to fund strategies focused on mature workers which will help prepare them for employment and advancement in high-demand, high-growth industries, as well as support the talent development needs of regional economies. While there are a range of approaches that cultivate and develop this critical labor pool, strategic partnerships must serve as the foundation of these solutions. Experience shows that workforce development strategies are most robust when developed in the context of a strategic partnership of regional leaders who have access to a range of resources. Thus, to maximize the impact of the proposed talent development activities, the applicant for the solicitation must partner with a strong team composed of individuals and organizations necessary to transform the regional economy.

Required partners for this solicitation include the public workforce investment system; employers, industry associations, or business intermediaries, such as chambers of commerce; and educational institutions and training providers. The strategic partnership should engage each required entity in its area of strength. For example, in the 21st century global economy, it is becoming increasingly important that the workforce system act as a strategic partner in regional economic development. The workforce system can align resources with regional economic growth goals by focusing on workforce and lifelong learning strategies that are demanded by employers and based on an understanding of future job growth in emerging, high-growth and economically vital industries and sectors in the regional economy. Through this strategic alignment, the workforce system can help to ward off and respond to economic shocks, creating more stable and rewarding employment opportunities for the workforce. Educators at all levels are also important to a strategic partnership. Education and training providers can assist in developing competency models and curricula and train new and incumbent workers. Finally, employers and industry representatives can define workforce challenges facing a specific industry and identify the competencies and skills required for that industry's workforce.

In addition to the required entities, applicants should think beyond geographical and physical boundaries to ensure that the full range of resources, knowledge, and leadership available to support workforce solutions for older workers are engaged in the project, and that the partnership includes entities that can act as levers of change to identify and address barriers to success. Other partners could include, but are not limited to, national, state, or local aging organizations, including SCSEP grantees; local, regional, and state government; economic development entities; apprenticeship programs; Indian and Native American tribes or organizations; the philanthropic community; and community and faith-based organizations.

Within the context of the strategic partnership, each partner should have clearly defined roles. The exact roles of partners may vary depending on the specific issue areas being addressed and the nature and the scope of the strategies undertaken. However, ETA expects that each partner will, at a minimum, significantly contribute to one or more aspects of the project. For example:

• The workforce system may play a number of roles, including identifying and assessing older workers for training; providing wrap-around support services and training funds for older workers, where appropriate; and connecting qualified training graduates to employers that have existing job openings.

• Employers, industry associations, and business intermediaries must be actively engaged in the project and should contribute to many aspects of grant activities such as helping to define the project's strategies and goals; identifying innovative and successful approaches to succession management and flexible work arrangements and sharing their experiences with other employers; identifying needed skills and competencies; and, where appropriate, hiring qualified training graduates.

• Educational institutions and training providers from the continuum of education (including community and technical colleges, four-year colleges and universities, apprenticeship, and other training entities) should assist in developing industry-driven workforce education strategies in partnership with employers including competency models, curricula, and new learning methodologies.

• Faith-based and community organizations may perform a variety of grant services such as case management, mentoring, and English language programs, among others. These organizations can leverage other resources to provide wrap-around holistic and comprehensive support services, where appropriate.

• State and area agencies on aging, SCSEP grantees, and other organizations with demonstrated expertise in serving older workers can play a key role in the proposed strategies in numerous ways, including lending their expertise to the planning and development of the project, providing specific education and services as part of the project, and offering access to key employer and other types of partners.

Applicants must provide evidence, including letters of commitment to carry out the activities described in the grant proposal, to demonstrate the existence of the required partnerships as well as additional partnerships that substantially support and strengthen the proposed activities, especially any existing relationships with required partners. Letters of support do not constitute partnership commitments.

The partnership's activities should focus on creating systemic solutions that address workforce challenges of older individuals while simultaneously contributing to long-term talent development and economic growth in the regional economy. The partnerships need to be substantial and sustained and not just a by-product of this specific grant opportunity. ETA encourages planning for the partnership's sustainability beyond the funding period to enable ongoing assessment of workforce needs and collaborative development of solutions on a continual basis.

2. High-Growth and High-Demand Industries and Economic Sectors

WIA emphasizes a public workforce investment system driven by the needs of local employers. In order for America to remain competitive in the global economy, it is essential that ETA target its investments to support employers in high-growth, high-demand industries. LWIBs and One-Stop Career Centers play a vital role in this effort by understanding the workforce needs of these industries and providing training and other services to address those needs.

High-growth, high-demand industries, from healthcare to construction to biotechnology, are critical to the success of regional economies across the country. Regions are typically defined as geographically contiguous areas and can include multiple counties and cities and cross state lines. A range of factors contribute to the formation of a region, including economic interdependence (such as a common industry or industries) and shared assets (such as human capital, research and development entities, educational institutions, and airports and other types of infrastructure). ETA encourages applicants to define high-growth industries in the context of their regional economy by illustrating the industry's growth potential and how the industry can contribute to expansion of the regional economy. In an effort to help support the continued growth of these regional economies, while simultaneously addressing the workforce challenges facing older workers, this solicitation will support industry demand for training of older workers in regional high-growth, high-demand industries.

A high-growth, high-demand industry meets one or more of the following criteria: (1) Is projected to add substantial numbers of new jobs to the economy; (2) has a significant impact on the economy overall; (3) impacts the growth of other industries; (4) is being transformed by technology and innovation requiring new skill sets for workers; or (5) is a new and emerging business that is projected to grow. In the case of the fifth criterion relating to new or emerging businesses noted above, the applicant should address whether there might be potential demand for older workers to fill skill gaps in such businesses. The occupation or industry must be one for which employers use H-1B visas that generate the funds that are being used to support the training under this solicitation (see Attachment: H-1B Industry Sectors and Occupations).

The extent of the impact of the aging population will vary across industries. Thus, another factor to be considered in identifying high-growth, high-demand industries, in addition to the five criteria listed above, is whether there are (or could potentially be) retirements of a significant share of the workforce in the industry due to the aging of the Baby Boomer generation and whether there might be resulting skill shortages.

Grants funded under this solicitation should demonstrate how a demand-driven workforce system can help meet both the regional workforce needs of employers in high-growth, high-demand industry sectors, and at the same time help older workers obtain the skills to find quality jobs with promising career pathways. Proposed strategies should be focused and integrated, and should be driven by an accurate and comprehensive understanding of regional, industry-identified workforce challenges and the educational, workforce, and other assets available to support solutions.

3. Connections to Regional Economic and Talent Development Strategies

A regional approach to talent development incorporates demand-driven skills strategies into the region's larger economic development and education efforts to form a comprehensive system that is both flexible and responsive to the needs of business and workers. ETA has modeled a regional approach to talent development through the WIRED Initiative. Through WIRED, ETA supports broad regional partnerships as they expand employment and advancement opportunities for American workers and catalyze the creation of high-skill and high-wage opportunities in regional economies. The WIRED Initiative recognizes that, although global competition is often seen as a national challenge, it is actually at the regional level where solutions must be developed and the challenges met. It is in regional economies where companies, workers, researchers, entrepreneurs, government, and others come together to create competitive advantage and where new ideas and new knowledge are transformed into advanced, high-quality products or services. Therefore, WIRED focuses on labor market areas that are comprised of multiple jurisdictions within a state or across state borders. WIRED offers a strategic framework for regions to approach regional talent development. (More information and tools to help develop and implement your project using the WIRED strategic framework can be found at: http://www.doleta.gov/WIRED.)

One of the guiding principles of WIRED is that a region's ability to develop, attract, and retain a well educated and skilled workforce is a key factor in being competitive in the global economy. Older workers are an experienced and highly skilled pool of labor that can help regions meet their workforce needs and contribute to economic growth of the region's key industries. Therefore, fully utilizing the mature workforce should be a key component of regional talent development strategies.

Therefore, strategies proposed by applicants for the Older Worker Demonstration should not be developed in isolation. Rather, partnership activities and proposed strategies should be fully integrated into the region's broader talent development and economic development strategies. Applications will be evaluated on the extent to which such alignment and integration is demonstrated. Applicants must demonstrate in their proposal how the strategic partnership, working to design and implement the proposed strategies, is connected to the broader regional strategic talent and economic growth agenda for the region.

4. Clear and Specific Outcomes

HGJTI grants are results-oriented and grantees are expected to demonstrate clear and specific outcomes that indicate progress towards addressing the identified workforce challenges, are appropriate to the nature of the proposed strategies and the size and scope of the project, are achievable during the life of the grant, and can be effectively reported to ETA on a quarterly basis. Since HGJTI grants result in customized strategies addressing regional workforce challenges and skill shortages, ETA recognizes that specific outcomes will vary from project to project based on the specific activities proposed by applicants. Standard data collected from all grantees provides only part of the information necessary to measure the successes of HGJTI grants effectively, so grant recipients may also define additional outcome categories appropriate to their project. Applicants must demonstrate the effectiveness of proposed activities by establishing appropriate outcome projections for the project, which will be considered baseline performance measures for the project if awarded. Applicants should note that HGJTI grantees must report to ETA, on a quarterly basis, their progress towards meeting the projected training and capacity building outcomes listed in their applications.

ETA has received Office of Management and Budget (OMB) approval to implement a report format for grantees under the HGJTI, as well as the Community-Based Job Training Grants, entitled: “High Growth and Community-Based Job Training Grants: General Quarterly Reporting Forms & Instructions.” The required format and associated instructions are available at http://www.doleta.gov/Performance/Guidance/wia.cfm#HGBIT, and provide grantees with information on all of the training and capacity building outcome categories described below, as well as specific instructions regarding how grantees report their performance in these categories on a quarterly basis. ETA strongly encourages applicants to review the required report format for detailed information on the program reporting requirements and to ensure they will be able to track and report the information required under the grant.

Training Outcomes. Training outcomes tracked and reported by grantees must include those tracked by the Common Measures, which are uniform evaluation metrics for job training and employment programs. The Common Measures are an integral part of ETA's performance accountability system. The Common Measures for adults are entered employment rate, employment retention rate, and average earnings. Applicants must include projected outcomes to be achieved during the life of the grant for the entered employment rate Adult Common Measure. Grantees will be required to report quarterly on their outcomes for all three Adult Common Measures. Please note that ETA recognizes that the reporting of certain data is contingent on the timing of the availability of data. Data must be reported when it is available. Additionally, tracking Common Measures requires either the collection of four data elements (social security number, employment status at participation, date of exit, and reason for exit) or use of supplemental data. A detailed description of ETA's policy on the Common Measures can be found in the Training and Employment Guidance Letter (TEGL) No. 17-05 (http://wdr.doleta.gov/directives/corr_doc.cfm?DOCN=2195). Applicants may find it useful to review this document prior to submitting applications under this solicitation.

The Common Measures provide only part of the information necessary to assess the success of HGJTI grants effectively. In addition to Common Measures, applicants are required to provide projections and track and report outcomes for each of the following outcome categories: total number of participants served; total number of participants beginning education/training activities; total number of participants completing education/training activities; total number of participants that complete education/training activities that receive a degree/certificate; total number of participants that complete education/training activities that enter employment; and the total number of participants that complete education/training activities that enter training-related employment. Grantees will be required, on a quarterly basis, to report on their outcomes for each of these outcome categories, as well as additional information, such as total exiters. (The definition of “exiter” is provided in the General Quarterly Reporting Forms & Instructions available at http://www.doleta.gov/Performance/Guidance/wia.cfm#HGBIT ).

Capacity Building Outcomes. Grantees are required to report, on a quarterly basis, the outcomes of capacity building activities, which include impacts and other verifiable measures of participation where appropriate. An example is grantees that engage in train-the-trainer activities; in this example, a grant may train 25 individuals to be “instructors” who then each provide instruction to 20 older workers. The impact of these train-the-trainer activities would then be a total of 500 individuals. In their quarterly reports, grantees will be required to track and report the following three categories: (1) The number of instructors who participated in grant-funded capacity-building activities; (2) the number of people subsequently trained by those instructors; and (3) the number of other people participating and/or benefiting from capacity building activities.

Please note that capacity building outcomes and impacts of the proposed project should satisfactorily address the industry-identified workforce need and capacity constraints identified by the applicant.

Applicants should also note that proposals will be evaluated based on outcomes, per the Performance Measures and Outcomes evaluation criterion in Part V(A)(5). It is imperative that applicants include projections for the above-mentioned required outcome categories in their grant proposals. Applicants that fail to include projections for required outcome categories in their proposals will lose points during the review process.

All outcome categories and projected outcomes in the application will become part of the project's statement of work as the goals for the grant, should the application be funded. It is not ETA's intent to renegotiate performance outcomes after grant awards are made, though it reserves the right to do so if necessary.

5. Shared and Leveraged Resources

HGJTI investments leverage funds and resources from key entities in the strategic partnership. Leveraging resources in the context of strategic partnerships accomplishes three goals: (1) Allowing for the pursuit of resources driven by the strategy; (2) increasing stakeholder investment in the project at all levels, including the design and implementation phases; and (3) broadening the impact of the project itself. Leveraged resources will be taken into consideration during application review as one element of the “Strength of Regional Partnership” evaluation criterion.

Leveraged resources include both federal and non-federal funds and may come from many sources. Businesses, faith-based and community organizations, economic development entities, educational institutions, and philanthropic foundations often invest resources to support workforce development. In addition, state and area agencies on aging, SCSEP grantees, and other organizations serving older workers; One-Stop partner programs; and other federal, state, and local government programs may have resources available that can be integrated into the proposed project. ETA encourages grantees and their partners to be entrepreneurial as they seek out, utilize, and sustain these resources when creating effective solutions to the workforce challenges faced by older individuals.

Applicants are encouraged to submit projects that leverage existing investments. These investments may be active within the region, such as those from ETA funding sources, including WIRED Initiative grants, Community-Based Job Training Grants, HGJTI funds, or WIA formula funds, or may come from other government, private sector, or philanthropic sources. Applicants are also encouraged to leverage existing investments in products, models, or tools that may be of use in the project.

D. Focus Areas of Older Worker Demonstration Grants

While a range of strategies and approaches will be considered for funding, ETA encourages applicants to address one or more of the following focus areas: Innovative Training Techniques and Service Delivery Strategies, Facilitating Self-Employment for Older Workers, Career Pathways, Career Awareness and Outreach, Building Education and Training Capacity, and Disadvantaged Older Worker Populations. In addition, strategies proposed by the applicants should be well-developed, address regional workforce challenges, and include training to prepare or adapt the skills of unemployed or incumbent older workers so they can be utilized in the targeted industries or economic sectors.

1. Innovative Training Techniques and Service Delivery Strategies

Applicants are encouraged to submit proposals that include innovative training techniques and service delivery strategies.

Training Techniques. Based on older workers' existing expertise, learning styles, and other factors, specific training techniques may be particularly effective in helping prepare older individuals for employment opportunities. Different training techniques may be more effective for older individuals than for their younger counterparts. Applicants are encouraged to focus on the development and distribution of training that is targeted at mature audiences. Examples would include, but are not limited to, contextualized learning; methods for upgrading specific occupational skills; techniques for delivering training in computer and technological skills; and comprehensive training models that include wraparound services, such as assessment and follow-up, and appropriate supportive services (provided through leveraged resources). Applicants are also encouraged to utilize technology-based learning (TBL) models in their training programs. TBL can be defined as the learning of content via all electronic technology, including the Internet, intranets, satellite broadcasts, audio and video tape, video and audio conference, Internet conferencing, chat rooms, bulletin boards, Web casts, computer-based instruction and CD-ROM. It encompasses related terms, such as online learning, Web-based learning, computer-based learning and e-learning. TBL may be particularly appropriate for those older workers who already possess considerable work experience and job skills, but need to update specific skills or adapt them to new industries or occupations. TBL also allows incumbent workers to brush up their skills during non-work hours, at their own convenience.

Service Strategies. Applicants are encouraged to include innovative strategies for delivering training and related services to older workers. Such strategies might entail ways to enhance the capacity of the One-Stop Career Center system to serve older workers, creating partnerships that would be particularly effective in serving an older population, and/or bundling services that would be particularly valuable to support older worker training and employment. Examples in this focus area would include, but are not limited to:

• Affiliate One-Stop Career Centers associated with senior centers or community and faith-based organizations that specialize in training and placing older workers.

• Models undertaken by some community colleges to develop training and placement opportunities for older workers to meet current local labor market needs. These colleges have created educational and vocational training programs tailored to older peoples' learning styles, and offer student advisor and supportive services (which could be provided through leveraged resources) to older students. Workforce Investment Boards often collaborate with community colleges on these efforts to provide funding, labor market information, connections with employers, and referrals.

• Training workforce professionals within One-Stop Career Centers on how to effectively provide employment and training services to older individuals.

2. Facilitating Self-Employment for Older Workers

Applicants are encouraged to submit proposals that focus on entrepreneurial training for older individuals. Americans ages 55 to 64 form small businesses at the highest rate of any age group—28 percent higher than the average for all adults. Yet, many self-employed older individuals still face risks and challenges such as inadequate access to capital and/or lack of information and training on developing an effective business plan. For many older individuals who have been laid off from their jobs, their most viable option may be starting their own business. Applicants are encouraged to include strategies to help older workers acquire the skills they need to successfully launch their own enterprises. Applicants could consider collaborative efforts with Small Business Administration programs, such as Small Business Development Centers and Women's Business Centers, or other appropriate partners that would provide assistance in facilitating self-employment for older workers.

3. Career Pathways

Applicants are encouraged to include strategies that focus on creating career pathways for older workers. Although career pathways can take many forms, they are generally a sequence of employment opportunities for workers who gain new skills to advance in their careers, by either moving vertically to a more advanced position within their occupation or industry or laterally across occupations or industries to a position that relates to the worker's original career. For older workers, career pathways offer opportunities to adapt their skills and experience through lateral moves in their current organization and industry, or to new occupations or industries. Sometimes, such moves require minimal training to adapt skills to a new industry or occupation (such as learning new terminology). Other times, it may require learning new skills or retooling old skills. In either case, the worker's years of past on-the-job experience will benefit both the worker and his or her new employer.

Career pathways are of value to many older workers who wish to pursue new challenges, develop new skills, seek opportunities to move up, or transfer their skills to a different, but related, occupation. They may also be appropriate for older individuals with disabilities or health problems. For example, a nurse who can no longer work in that occupation because of back injuries, may be trained for and move to a position in medical records using knowledge of medical terminology as a transferable skill.

4. Career Awareness and Outreach

Applicants are encouraged to submit projects that integrate career awareness and outreach into education and training programs for older workers, including job-readiness opportunities, job shadowing and information sessions, and the provision of information on career opportunities in targeted industries and economic sectors. Career awareness and outreach components should leverage existing industry marketing and campaign efforts, if applicable, including the development of Web sites, videos, podcasts, print and multimedia materials, televisions ads, and other promotional materials.

5. Building Education and Training Capacity

Applicants are encouraged to submit projects that enhance the capacity of community colleges, proprietary training providers, labor-management organizations, and/or other education and training providers to provide training to older workers to upgrade their skills and facilitate career transitions into employment in high-growth, high-demand industries. Examples of capacity building activities include, but are not limited to: (1) The development or adaptation of competency models and curricula to support training of older workers; (2) the development of innovative curricula, teaching methods, and instructional design to maximize the impact of the initiative in meeting the skills needs of employers; (3) innovative strategies to ensure availability of qualified and certified instructors for older worker training; and (4) support for clinical experiences required for certification or licensure.

Capacity building activities should be directly linked to the specific training for older workers supported under the grant. To the greatest extent possible, applicants should leverage existing curricula and training or certification programs that have demonstrated results for an older worker population, or could be effectively adapted for this population. If existing curricula or other capacity building products and activities are not sufficient, applicants should clearly explain why.

6. Disadvantaged Older Workers

Applicants are encouraged to include strategies in their project that focus on the training and placement of particularly disadvantaged and underutilized groups among the older worker population. Examples of disadvantaged and underutilized groups include older persons ages 65 and older, older dislocated workers, older individuals with disabilities, displaced homemakers and women re-entering the labor force, retired veterans, older military spouses, older ex-offenders, older minority populations, and older new Americans. Strategies focused on these worker groups might include both outreach and preparation strategies, partnerships with community or faith-based organizations or other experienced providers with expertise in working with non-traditional labor pools, and training services combined with mentorships and supportive services (which could be provided through leveraged resources).

E. Technical Assistance

Fund recipients under this solicitation will be provided with the opportunity to receive technical assistance after grant awards have been made. This may include, but is not limited to, the provision of data profiles of their regions and tools to use the data in planning and project implementation and participation in grantee meetings to facilitate sharing information across demonstration projects. Participation in any technical assistance activities by grant recipients under this solicitation is voluntary and is not a condition for receiving funding.

F. Use of Funds/Allowable Activities

Grants selected under this solicitation will be funded by H-1B visa fees as authorized under Sec. 414(c) of the American Competitiveness and Workforce Improvement Act of 1998 (Pub. L. 105-277, title IV) as amended by Public Law 108-447 (codified at 29 U.S.C. 2916a). These funds are focused on the development of the workforce and may be used to provide training and related activities to workers to assist them in gaining the skills and competencies needed to obtain and upgrade career ladder employment in industries and economic sectors projected to experience significant growth. Examples of activities related to training include career awareness and outreach, strategies to promote career pathways, and activities to enhance the capacity of education and training providers. Funds available under this solicitation may only be used for projects that provide training in the occupations and industries for which employers pay H-1B visa application fees that generate these funds and the related activities limited to those necessary to support training in such occupations and industries. (See Attachment: H-1B Industry Sectors and Occupations). Funds may also be used to enhance the provision of job training services and information as authorized in 29 U.S.C. 2916(a)(2)(B).

Part II. Award Information

A. Award Amount

ETA intends to fund 10 to13 grants ranging from $750,000 to $1,000,000 through this solicitation. However, this does not preclude ETA from funding grants at either a lower or higher amount, or funding a smaller or larger number of projects, based on the type and the number of quality submissions. Applicants should recognize that the funds available through this solicitation are designed to complement additional leveraged resources rather than be the sole source of funds for the proposal.

Applicants should note that selection of an organization as a grantee does not constitute approval of the grant application as submitted. Before the actual grant is awarded, ETA may enter into negotiations about such items as program components, allowable activities, staffing and funding levels, and administrative systems in place to support grant implementation. If the negotiations do not result in a mutually acceptable submission, the Grant Officer reserves the right to terminate the negotiation and decline to fund the application.

B. Period of Performance

The period of grant performance will be 36 months from the date of execution of the grant documents. This performance period will include all necessary implementation and start-up activities, participant follow-up for outcomes, and grant close-out activities. A timeline clearly detailing these required grant activities and their expected completion dates must be included in the grant application. If applied for, and with significant justification, ETA may elect to exercise its option to award no-cost extensions to these grants for an additional period at its own discretion, based on the success of the project and other relevant factors.

Part III. Eligibility Information and Other Grant Specifications

A. Eligible Applicants

Given that the focus of this solicitation is to address the workforce challenges facing older individuals by developing models for talent development in regional economies that recognize older workers as a valuable labor pool and include employment and training strategies to retain and/or connect older workers to jobs in high growth, high demand industries critical to the regional economy, the preferred applicants are Local Workforce Investment Boards. Others may apply as described below.

The preferred applicant for this solicitation is a legal entity that represents the local workforce investment system as follows:

• A Local Workforce Investment Board (LWIB), as established under Section 117 of the Workforce Investment Act of 1998 (WIA) (Pub. L. 105-220), that has been incorporated; or

• In areas where the LWIB is not incorporated, the legal entity that serves as the fiscal agent for the local workforce investment area.

Other applicants for this solicitation may include:

• A non-LWIB entity with the concurrence from the LWIB (this would require evidence of the board's support and involvement in the project along with a letter of concurrence).

• All other applicants without a letter of concurrence from the LWIB (such applicants must demonstrate how the proposed activities will be connected to the region's talent and economic development strategies, including improvement of services to older workers through the LWIB).

If the eligible applicant will not be the fiscal agent for the grant, then the applicant must identify the designated entity that will serve as the fiscal agent for the grant by clearly providing the legal name and EIN of the fiscal agent in the abstract and on the Standard Form (SF) 424.

B. Eligible Participants

Individuals ages 55 and older, from any income bracket (including at or below the poverty line), including unemployed individuals or incumbent workers, are eligible to participate in the activities funded by the grants awarded under this solicitation.

C. Cost Sharing or Matching

Cost sharing, matching, or cost participation is not required for eligibility. However, applicants are strongly encouraged to leverage resources from key entities in the strategic partnership in order to maximize the impact of the project in the region. Applicants should describe what resources, new and existing, may support the goals of the project. Other federal funds that are leveraged should be explicitly identified. While the failure to offer leveraged resources as part of an application will not preclude consideration, leveraged resources will be taken into consideration during application review as one element of the “Strength of Regional Partnership” evaluation criterion.

D. Replication and Dissemination

ETA is currently pursuing an aggressive national dissemination strategy that focuses on widely and publicly distributing grantee products through a network of stakeholders including education and industry partners and the public workforce investment system. The products developed through the HGJTI include but are not limited to curriculum, competency models and career ladders, distance learning tools, career awareness and outreach materials, case studies, program management and implementation tools, reports and databases, creation of industry skill centers for older workers, and Web sites. HGJTI grantees are required to submit to ETA products developed with grant funding; these products will be included in ETA's dissemination strategy. In addition, grantees must provide evidence of an independent review by subject matter experts of the deliverables produced through the grant activity. (Applicants should allot funds in their grant applications for the independent review of their deliverables by subject matter experts). Subject matter experts are individuals with demonstrated experience in developing and/or implementing similar deliverables. These experts could include grantees' peers, such as representatives from neighboring education and training providers. Grantees must provide ETA with the results of the review and the qualifications of the reviewer(s) at the time the deliverable is provided to ETA.

All of these deliverables and their independent reviews will be made available online at http://www.workforce3one.org. Workforce3One offers the workforce system, employers, economic development professionals, and education professionals an innovative knowledge network designed to create and support demand-driven communities—that responds directly to business needs and prepares workers for good jobs in the fastest growing careers. By supporting replicable projects that can be implemented in multiple areas and industries, ETA is able to maximize its investment by expanding the grant's impact beyond the initial grant site and helping additional businesses and workers in other regions.

E. Veterans Priority

The Jobs for Veterans Act (Pub. L. 107-288) provides priority of service to veterans and spouses of certain veterans for the receipt of employment, training, and placement services in any job training program directly funded, in whole or in part, by the Department of Labor. In circumstances where a grant recipient must choose between two equally qualified candidates for training, one of whom is a veteran, the Jobs for Veterans Act requires that grant recipients give the veteran priority of service by admitting him or her into the program. Please note that to obtain priority of service a veteran must meet the program's eligibility requirements. ETA Training and Employment Guidance Letter (TEGL) No. 5-03 (September 16, 2003) provides general guidance on the scope of the Job for Veterans Act and its effect on current employment and training programs. TEGL No. 5-03, along with additional guidance, is available at the “Jobs for Veterans Priority of Service” Web site: http://www.doleta.gov/programs/vets.

Part IV. Application and Submission Information

A. Address to Request Application Package

This section provides the application submission and receipt instructions for ETA program applications. Please read the following instructions carefully and completely. This solicitation contains all of the information and Web site links to forms needed to apply for grant funding.

B. Content and Form of Application Submission

The proposal must consist of two separate and distinct parts—Part I, the Cost Proposal, and Part II, the Technical Proposal. Applications that fail to adhere to the instructions in this section may be considered non-responsive and may not be given further consideration. Please note that it is the applicant's responsibility to ensure that the funding amount requested is consistent across all parts and sub-parts of the application.

Part I of the proposal is the Cost Proposal and must include the following:

• SF 424, “Application for Federal Assistance”, available at: http://www07.grants.gov/agencies/forms_repository_information.jsp. Upon confirmation of an award, the individual signing the SF 424 on behalf of the applicant shall be considered the Authorized Representative of the applicant.

• All applicants for federal grant and funding opportunities are required to have a Dun and Bradstreet (DUNS) number. For more information about the DUNS number, see OMB Notice of Final Policy Issuance, 68 FR 38402 (June 27, 2003). Applicants must supply their DUNS number on the SF 424. The DUNS number is a nine-digit identification number that uniquely identifies business entities. Obtaining a DUNS number is easy and there is no charge. To obtain a DUNS number, access this Web site: http://www.dunandbradstreet.com or call 1-866-705-5711.

• The SF 424A Budget Information Form, available at http://www07.grants.gov/agencies/forms_repository_information.jsp. In preparing the Budget Information Form, the applicant must provide a concise narrative explanation to support the request. The budget narrative should break down the budget and corresponding leveraged resources by deliverable, making clear distinctions between training and (if any) capacity building costs, and should discuss precisely how the administrative costs support the project goals. All applicants should indicate training costs-per participant by dividing the total amount of the budget designated for training by the number of participants trained.

Please note that applicants that fail to provide an SF 424, SF 424A and a budget narrative will be removed from consideration prior to the technical review process. If the proposal calls for integrating WIA or other federal funds or includes other leveraged resources, these funds should not be listed on the SF 424 or SF 424A Budget Information Form, but should be described in the budget narrative. The amount of federal grant funding (H-1B) requested for the entire period of performance (36 months) should be shown together on the SF 424 and SF 424A Budget Information Form. Applicants are also encouraged, but not required, to submit the OMB Survey No. 1890-0014: Survey on Ensuring Equal Opportunity for Applicants, which can be found at: http://www07.grants.gov/agencies/forms_repository_information.jsp.

Part II of the application is the Technical Proposal, which demonstrates the applicant's capabilities to plan and implement the grant in accordance with the provisions of this solicitation, and includes a project description as described in the Evaluation Criteria section of this solicitation. The project description is limited to 20 double-spaced, single-sided, 8.5 inch x 11 inch pages with 12 point text font and one-inch margins. Any pages over the 20-page limit will not be reviewed. The applicant may provide additional information, such as resumes, a staffing pattern, statistical information, general letters of support and related material in attachments, which may not exceed 15 pages. Any additional information in attachments beyond the 15-page limit will not be reviewed.

The required letters of commitment from partners that help demonstrate a firm commitment to the project through the provision of expertise and/or resources must be submitted as attachments. These letters of commitment will not count against the allowable maximum 35-page total. A letter of concurrence from a LWIB that demonstrates the board's support and involvement in the project also does not count against the allowable maximum page totals.

Please note that applicants should not send letters of commitment or support separately to ETA because letters are tracked through a separate system and will not be attached to the application for review. The applicant must clearly reference any partners in the text of the Technical Proposal. Except for the discussion of any leveraged resources to address the evaluation criteria, no cost data or reference to prices should be included in the Technical Proposal. The following information is required:

a. A table of contents listing the application sections.

b. A one-to-two page abstract summarizing the proposed project and applicant profile information including: applicant name; industry focus; brief description of the workforce challenges addressed; brief description of the proposed strategies; key partners; funding amount requested; amount of leveraged resources; and number of people trained and other key grant outcomes.

c. A one-to-two page timeline outlining project activities, including expected start-up, implementation, participant follow-up for outcomes, grant close-out and other activities.

d. A summary of up to three pages listing all projected outcomes for the project that includes the following:

1. For training-related outcomes, for participants served with grant funds list the projected numbers for all training-related activities provided through the grant, including but not limited to:

i. Entered Employment Rate (common measure);

ii. Total participants served;

iii. Total participants beginning education/training activities;

iv. Total participants completing education/training activities;

v. Total participants that complete education/training activities that receive a degree/certificate;

vi. Total participants that complete education/training activities that enter employment; and

vii. Total participants that complete education/training activities that enter training-related employment.

2. For capacity building outcomes (for activities funded by grant funds) include:

i. All products to be developed during the grant period.

ii. List the capacity building product (including, but not limited to, curriculum and course materials, competency models and career ladders, outreach materials, reports and databases, and program management and implementation tools); and

iii. The projected date the product(s) will be completed;

A. The number of instructors projected to participate in capacity building activities;

B. The number of students projected to be trained by these instructors; and

C. The estimated number of other individuals (besides these students and instructors) projected to participate and/or benefit from capacity building activities.

Please note that the abstract, table of contents, timeline, and listing of outcomes are not included in either of the page limits mentioned above. Applicants that do not provide Part II of the application will be removed from consideration prior to the technical review process.

Applications may be submitted electronically on Grants.gov or in hardcopy via mail or hand delivery. These processes are described in further detail in Part IV(C). Applicants submitting proposals in hard-copy must submit an original signed application (including the SF 424) and one “copy-ready” version free of bindings, staples or protruding tabs to ease in the reproduction of the proposal by ETA. Applicants submitting proposals in hard-copy are also requested, though not required, to provide an identical electronic copy of the proposal on CD-ROM.

C. Submission Date, Times, and Addresses

The closing date for receipt of applications under this announcement is February 19, 2009. Applications must be received at the address below no later than 4 p.m. (Eastern Time) if submitted by hard-copy. Applications submitted through http://www.grants.gov must be successfully submitted by February 19, 2009, 11:59:59 pm (Eastern Time).

Applications sent by e-mail, telegram, or facsimile (FAX) will not be accepted. If an application is submitted by both hard-copy and through http://www.grants.gov a letter must accompany the hard-copy application stating why two applications were submitted and the differences between the two submissions. If no letter accompanies the hard-copy we will review the copy submitted through http://www.grants.gov. For multiple applications submitted through http://www.grants.gov we will review the latest submittal.

Applications that do not meet the conditions set forth in this notice will not be honored. No exceptions to the mailing and delivery requirements set forth in this notice will be granted.

Mailed applications must be addressed to the U.S. Department of Labor, Employment and Training Administration, Division of Federal Assistance, Attention: Melissa Abdullah, Reference SGA/DFA PY-08-06, 200 Constitution Avenue, NW., Room N4716, Washington, DC 20210. Applicants are advised that mail delivery in the Washington area may be delayed due to mail decontamination procedures. Hand-delivered proposals will be received at the above address. All overnight mail will be considered to be hand-delivered and must be received at the designated place by the specified closing date and time.

1. Electronic Delivery. ETA is participating in the Grants.gov Initiative that provides the grant community a single site to find and apply for grant funding opportunities. ETA encourages applicants to submit their applications electronically through http://www.grants.gov/Apply.

2. The following describes what to expect when applying on line using Grants.gov/Apply:

a. Instructions. On the site, you will find step-by-step instructions which enable you to apply for the ETA funds. Grants.gov features a simple, unified application process that makes it possible for applicants to apply for grants online. The first thing to do if you're thinking about applying through Grants.gov is to register with the site. There are six steps to complete the registration process at Grants.gov. The information applicants need to understand and execute the steps can be found at http://www.grants.gov/GetStarted. Applicants should read these steps carefully. The site also contains a registration checklist at http://www.grants.gov/assets/Organization_Steps_Complete_Registration.pdf to help you walk through the process. ETA recommends that you download the checklist and prepare the information requested before beginning the registration process. Reviewing and assembling required information before beginning the registration process will make the process fast and smooth and save time.

b. DUNS Requirement. All applicants applying for funding, including renewal funding, must have a Dun and Bradstreet Universal Data Numbering System (DUNS) number. The DUNS number must be included in the data entry field labeled “Organizational Duns” on the form SF-424. Instructions for obtaining a DUNS number can be found in the instructions for registration.

c. Central Contractor Registry and Credential Provider Registration. In addition to having a DUNS number, applicants applying electronically through Grants.gov must register with the Federal Central Contractor Registry and with a Credential Provider. Instructions for registering in the Central Contractor Registry and for registering with a credential provider can be found at http://www.grants.gov/GetStarted. All applicants filing electronically must register with the Central Contractor Registry and receive credentials from the Grants.gov credential provider in order to apply on line. Failure to register with the Central Contractor Registry and credential provider will result in your application being rejected by the Grants.gov portal. The registration process is a separate process from submitting an application. Applicants are, therefore, encouraged to register early. The registration process can take approximately two weeks to be completed. Therefore, registration should be done in sufficient time to ensure it does not impact your ability to meet required submission deadlines. You will be able to submit your application online anytime after you receive your e-authentication credentials.

d. Electronic Signature. Applications submitted through Grants.gov constitute submission as electronically signed applications. The registration and e-authentication process establishes the Authorized Organization Representative (AOR). When you submit the application through Grants.gov, the name of your AOR on file will be inserted into the signature line of the application. Applicants must register the individual who is able to make legally binding commitments for the applicant organization as the AOR.

3. Instructions on how to submit an electronic application to ETA via Grants.gov/Apply. Grants.gov has a full set of instructions on how to apply for funds on its Web site at http://www.grants.gov/CompleteApplication. The following provides simple guidance on what you will find on the Grants.gov/Apply site. Applicants are encouraged to read through the page entitled, “Apply For Grants” before getting started. Grants.gov allows applicants to download the application package, instructions and forms that are incorporated in the instructions, and work off line. In addition to forms that are part of the application instructions, there will be a series of electronic forms that are provided utilizing an Adobe reader.

a. Adobe Reader. The Adobe Reader is available free for download at http://www.grants.gov/help/download_software.jsp. The Adobe Reader allows applicants to read the electronic files in a form format so that they will look like any other Standard or The Employment and Training Administration form. The Adobe forms have content sensitive help. This engages the content sensitive help for each field you will need to complete on the electronic form. The Adobe forms can be downloaded and saved on your hard drive, network drive(s), or CDs. To test if your version of Adobe Reader is compatible with Grants.gov please go to http://www.grants.gov/applicants/AdobeVersioningTestOnly.jsp (Note: For the Adobe Reader, Grants.gov is compatible with versions 8.1.1 and later versions. Please do not use lower versions of the Adobe reader).

b. Mandatory Fields in Adobe Forms. In the Adobe forms you will note fields that will appear with a background color on the data fields to be completed. These fields are mandatory fields and they must be completed to successfully submit your application.

c. Completion of SF-424 Fields First. The Adobe forms are designed to fill in common required fields such as the applicant name and address, DUNS number, etc., on all Adobe electronic forms. To trigger this feature, an applicant must complete the SF-424 information first. Once it is completed the information will transfer to the other forms.

d. Customer Support. The Grants.gov Web site provides customer support via (800) 518-GRANTS (this is a toll-free number) or through e-mail at support@grants.gov. The customer support center is open from 7 a.m. to 9 p.m. Eastern time, Monday through Friday, except federal holidays, to address Grants.gov technology issues. For technical assistance to program related questions for this solicitation please contact the number listed in Part VII. Agency Contacts.

4. Timely Receipt Requirements and Proof of Timely Submission

a. Electronic Submission. All applications must be received by http://www.grants.gov/Apply by February 19, 2009, 11:59:59 pm (Eastern Time). Proof of timely submission is automatically recorded by Grants.gov. An electronic time stamp is generated within the system when the application is successfully received by Grants.gov. Within two business days of application submission, Grants.gov will send the applicant two e-mail messages to provide the status of application progress through the system. Grants.gov will provide either an error or a successfully received transmission message. The first e-mail, almost immediate, will confirm receipt of the application by Grants.gov. The second e-mail (within 48 hours of submission) will indicate the application has either been successfully validated, and therefore successfully submitted, or has been rejected due to errors. It is the sole responsibility of the applicant to ensure a timely submission, therefore sufficient time should be allotted for submission (two business days). It is important to note that if sufficient time is not allotted and a rejection notice is received after the due date and time, the application will not be considered successfully submitted. Proof of Timely submission shall be the date and time that Grants.gov receives your successfully submitted application. Applications received by Grants.gov, after the established due date for the program will be considered late and will not be considered for funding by ETA. ETA suggests that applicants submit their applications during the operating hours of the Grants.gov Support Desk, so that if there are questions concerning transmission, operators will be available to walk you through the process. Submitting your application during the Support Desk hours will also ensure that you have sufficient time for the application to complete its transmission prior to the application deadline. Applicants using dial-up connections should be aware that transmission should take some time before Grants.gov receives it. The Grants.gov Support desk reports that some applicants abort the transmission because they think that nothing is occurring during the transmission process. Please be patient and give the system time to process the application. Uploading and transmitting many files, particularly electronic forms with associated XML schemas, will take some time to be processed.

Note: It is highly recommended that online submissions be completed at least two business days prior to the date specified for receipt of applications to ensure that the applicant still has the option to submit by overnight delivery service in the event of any electronic submission problems. Applicants take a significant risk by waiting to the last day to submit by grants.gov.

“Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Evidence of timely submission by a professional overnight delivery service must be demonstrated by equally reliable evidence created by the delivery service provider indicating the time and place of receipt. Failure to adhere to the above instructions will be a basis for a determination of nonresponsiveness.

D. Intergovernmental Review

This funding opportunity is not subject to Executive Order 12372, “Intergovernmental Review of Federal Programs.”

E. Funding Restrictions

Determinations of allowable costs will be made in accordance with the applicable federal cost principles. Disallowed costs are those charges to a grant that the grantor agency or its representative determines not to be allowed in accordance with the applicable federal cost principles or other conditions contained in the grant. Successful and unsuccessful applicants will not be entitled to reimbursement of pre-award costs.

1. Indirect Costs

As specified in OMB circular Cost Principles, indirect costs are those that have been incurred for common or joint objectives and cannot be readily identified with a particular final cost objective. In order to utilize grant funds for indirect costs incurred, the applicant must obtain an Indirect Cost Rate Agreement with its federal cognizant agency either before or shortly after grant award.

2. Administrative Costs

Under the HGJTI, an entity that receives a grant to carry out a project or program may not use more than 10 percent of the amount of the grant to pay administrative costs associated with the program or project. Administrative costs could be direct or indirect costs, and are defined at 20 CFR 667.220. Administrative costs do not need to be identified separately from program costs on the SF 424A Budget Information Form. They should be discussed in the budget narrative and tracked through the grantee's accounting system. To claim any administrative costs that are also indirect costs, the applicant must obtain an indirect cost rate agreement from its federal cognizant agency.

3. ETA Intellectual Property Rights. The Federal Government reserves a paid-up, nonexclusive and irrevocable license to reproduce, publish, or otherwise use, and to authorize others to use for federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

4. Legal Rules Pertaining to Inherently Religious Activities by Organizations that Receive Federal Financial Assistance. Direct Federal grants, sub-awards, or contracts under this program shall not be used to support inherently religious activities such as religious instruction, worship, or proselytization. Therefore, organizations must take steps to separate, in time or location, their inherently religious activities from the services supported with DOL financial assistance under this program. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972 and the Religious Freedom Restoration Act of 1993), national origin, age, disability, or political affiliation or belief.” Regulations pertaining to the Equal Treatment for Faith-Based Organizations, which includes the prohibition against supporting inherently religious activities with direct DOL financial assistance, can be found at 29 CFR part 2, Subpart D. Provisions relating to the use of indirect support (such as vouchers) are at 29 CFR 2.33(c) and 20 CFR 667.266.

A faith-based organization receiving federal financial assistance retains its independence from Federal, State, and local governments, and may continue to carry out its mission, including the definition, practice, and expression of its religious beliefs. For example, a faith-based organization may use space in its facilities to provide secular programs or services supported with Federal financial assistance without removing religious art, icons, scriptures, or other religious symbols. In addition, a faith-based organization that receives Federal financial assistance retains its authority over its internal governance, and it may retain religious terms in its organization's name, select its board members on a religious basis, and include religious references in its organization's mission statements and other governing documents in accordance with all program requirements, statutes, and other applicable requirements governing the conduct of DOL-funded activities.

The Department notes that the Religious Freedom Restoration Act (RFRA), 42 U.S.C. sec 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with the information on how to request such an exemption.

Faith-based and community organizations may reference “Transforming Partnerships: How to Apply the U.S. Department of Labor's Equal Treatment and Religion-Related Regulations to Public-Private Partnerships” at: http://www.workforce3one.org/public/_shared/detail.cfm?id=5566&simple=false.

5. Use of Funds for Supportive Services

Use of grant funds for supportive services, such as transportation and childcare, is not an allowable cost under this solicitation, including funds provided through stipends for such purposes.

F. Withdrawal of Applications

Applications may be withdrawn by written notice at any time before an award is made.

Part V. Application Review Information

A. Evaluation Criteria

This section identifies and describes the criteria that will be used to evaluate Older Worker Demonstration proposals. These criteria and point values are:

Criterion | Points
1. Statement of Need | 10
2. Strength of Strategic Partnerships | 20
3. Strategies for Older Worker Demonstration Projects | 25
4. Integration with Regional Economic and Talent Development Strategies | 10
5. Outcomes | 15
6. Program Management and Organizational Capacity | 10
7. Dissemination, Sustainability and Replicability | 10
Total Possible Points | 100

1. Statement of Need (10 Points)

Applicants must demonstrate a clear and specific need for federal investment in their proposed project. This should be accomplished by identifying the industry, or multiple industries, of focus and establishing that it satisfies ETA's criteria for high-growth, high-demand industries in the regional economy (as described in Part I(C) of this solicitation). Applicants should also identify how their project will address workforce challenges specific to older workers. Finally, applicants should explain how they will meet specific needs in their regional economy. Applicants are encouraged to work collaboratively with their state's labor market information directors to identify and analyze economic and workforce data that characterize the regional economy, provide an understanding of the high-growth industries in the region, and provide an understanding of the available labor pool, including data on older workers in the region. Scoring for this criterion will be based on the following factors:

• Regional and industry workforce challenges (4 points). Applicants must describe the employment and training needs of the regional economy and industries in that regional economy by: (1) Identifying the specific region of focus for the proposal; (2) identifying specific industries and occupations that are critical to the economy in the proposed area; (3) describing the specific hiring, retention, training and/or other workforce challenges facing employers in the region; and (4) describing the current approaches of employers in the region to utilizing older workers, and why a broader, regional approach is necessary. Examples of regional and industry workforce challenges include shortages of workers in specific occupations, unmet demand for workers in specific occupations, and difficulty recruiting individuals in disadvantaged or underutilized labor pools such as low-income older workers. Applicants must discuss how these workforce challenges affect the specific employer partners contained in their proposal.

• Challenges facing older workers (4 points). Applicants must clearly articulate the specific workforce challenges facing older workers to be addressed by their proposal. Applicants should specify whether they will be addressing one or more of the challenges discussed in Part I(A) of this solicitation or different challenges that are not listed. Applicants must demonstrate the existence of such challenges for the older individuals in their region and identify the scope of these challenges. Additionally, applicants should provide evidence demonstrating that existing models and approaches are not sufficient to address these challenges and that there is a need for federal investment in the proposed activities.

• Resource mapping (2 points). Applicants must describe the resource mapping that has been conducted that demonstrates that current resources are not sufficient to address the workforce challenges. Resource mapping entails identifying all the assets in a region that can be used in support of workforce and economic development efforts. Applicants may draw from a variety of resources for supporting data, including: Traditional labor market information, such as projections; industry data from trade or industry associations, Chambers of Commerce, census.gov, state agencies on aging, or direct information from the local employers or industry; information on the regional economy from economic development agencies; and other transactional data, such as job vacancies. If capacity building activities are proposed as part of the project, applicants must demonstrate the existence of a capacity constraint in addressing the workforce challenges, in the area in which the grant activity will take place.

2. Strength of Strategic Partnerships (20 Points)

The applicant must clearly describe how the proposed project will be implemented by a strategic partnership comprised of a strong team of regional leaders. The proposed partnership must include at least one entity from each of the following three categories: The public workforce investment system; employers, industry associations, and business intermediaries, such as chambers of commerce; and educational institutions and training providers. Applicants must also demonstrate that additional partners have been brought to the table to ensure that the full range of assets, resources, knowledge, and leadership are engaged in the project, and that the partnership includes entities that can act as levers of change to identify and address barriers to success. Additional partners could include, but are not limited to, national, state, or local aging organizations, including SCSEP grantees; economic development entities; apprenticeship programs; local, regional, and state government; Indian and Native American tribes or organizations; the philanthropic community; and community and faith-based organizations.

The applicant must identify the partners by organizational name and category, explain their role in the project, and document the resources leveraged from each partner. Partners must verify their involvement in the project through a letter of commitment detailing the roles, responsibilities, and resources the partner will commit to the project. The letters of commitment must be attached to the proposal, as an appendix.

ETA encourages, and will be looking for, applications that go beyond the minimum level of partnership and demonstrate broader, substantive and sustainable partnerships. Scoring on this criterion will be based on the following factors:

Evidence of partnerships and comprehensiveness of partnerships (10 points). The applicant must provide a comprehensive list of strategic partners that will be included in the project and the articulation of each partner's role in the project. Points for this factor will be awarded based on:

• The degree to which each partner (including all required partners) plays a committed role (either financial or non-financial) in the proposed project.

• The breadth and depth of each partner's contribution, including the specific services and activities of each, their knowledge and experience concerning grant activities, and their ability to impact the success of the project.

• Evidence that key partners have expressed a clear dedication to the project and understand their area of responsibility, in the form of letters of commitment from required partners.

• Evidence that the partnership includes the key regional assets and institutions necessary to address the identified workforce challenges. If key regional assets and institutions are not currently engaged in the partnership, then the applicant must clearly identify how appropriate organizations or individuals will be brought into the partnership quickly.

The role of the public workforce system (5 points). Applicants must demonstrate a substantive and comprehensive role of the public workforce system in the project. Points for this factor will be awarded based on the following:

• The level of LWIB commitment and involvement in the project.

• The degree to which the role of each partner will support the objective of building the capacity of the workforce system to serve older individuals.

• The level of coordination that already exists between the project's partners and the workforce system.

Partnership engagement and leveraged resources (5 points). The applicant must demonstrate meaningful engagement of partners in project activities. Points for this factor will be awarded based on the following:

• A high level of coordination already exists among partners. If a high level of coordination does not exist, then the applicant must demonstrate that it has the capacity to quickly establish these links and discuss strategies for strengthening the partnership.

• The extent to which the applicant integrates partners' strengths and assets into project design and implementation.

• A plan for interaction and communication among partners at each stage of the project, from planning to execution.

• A full description of which partners have contributed leveraged resources, the specific contributions (cash and/or in-kind), the amount and nature of the contributions, and how they will contribute to the achievement of the goals of the project including any specific outcomes that will result from any leveraged resources the partners contribute to the project. Applicants must provide evidence (through letters of commitment) that their partners have expressed a clear commitment to provide the contribution.

3. Strategies for Older Worker Demonstration Project (25 Points)

The applicant must describe the proposed project in full, including each of the strategies, and how the strategies address the challenges described in the statement of need. Scoring for this criterion will be based on the following factors:

Overview of the proposed project (8 points). Points for this factor will be awarded based on how the applicant has addressed the following:

• A complete and detailed description of the specific strategies that will be implemented through the proposed project.

• A thorough description of the specific services and activities that the workforce system will provide as part of these strategies.

• The specific skills and competencies that are targeted through the training activities of the project and an explanation of how they will support career pathway growth for participants. Applicants should also note if and how the strategies will lead to industry-recognized credentials.

• Specific existing tools and approaches which the project will utilize should be identified, or an explanation of why existing tools and approaches are not sufficient to address the challenges.

• If applicable, applicants should indicate the special target populations of older workers to be served.

• How the individual strategies proposed for the project relate to each other and, together, represent an integrated, coherent approach.

Addressing the needs of older workers and businesses (8 points). Applicants should demonstrate that the proposed project addresses specific challenges facing older workers, including those facing older workers in the region identified in the statement of need, and outline specific methods that will be used to recruit program participants. Applicants should also detail how the project will address the specific workforce challenges facing employers in the region in which the project will operate.

Evidence that the applicant has a clear understanding of the tasks required to successfully meet the objectives of the grant (9 points). When assessing a proposal, weight will be given to the feasibility of a combined work plan and timeline, as well as the soundness of the budget justification. Points for this factor will be awarded based on how the applicant has addressed the following:

• An integrated work plan and timeline. This combined work plan/timeline should break the project down into its multiple steps and estimate how long each is likely to take (e.g., start-up and implementation activities, training and related activities, participant follow-up for outcomes, and grant closeout activities). The work plan/timeline should be highly detailed and include specific goals, objectives and activities.

• The budget line items are consistent with and tied to the workplan/timeline.

• The extent to which the budget is justified with respect to the adequacy and reasonableness of the resources requested.

• Brief explanation of the cost-per-participant for the proposed training activities.

4. Integration With Regional Economic and Talent Development Strategies (10 Points)

A primary focus of this solicitation is demonstrating the connection of workforce strategies for older workers to broader talent development strategies driving economic growth in regional economies. Therefore, applicants must provide strong evidence of the connection of the grant activities to the region's economic and talent development strategies.

Scoring on this criterion will be based on the applicant's ability to demonstrate that their project is fully integrated into the region's economic and talent development strategy by:

• Summarizing the region's strategic vision for economic and workforce development efforts that will support regional talent development and economic growth.

• Describing how the strategies will support the regional economy by utilizing the mature workforce in a regional talent development strategy.

• Either describing: (1) How the proposed strategies for older workers are part of or complement existing approaches under regional talent development and economic development plans and initiatives; or (2) describing how their project is a catalyst for bringing partners together to begin the analysis and strategic planning in their region.

• Describing any regional partnerships that are part of their project and detail how the partnerships are broader and deeper in scope than the local partnerships in place to implement the proposed strategies.

• Describing the applicant's capability, either directly or through agreements with other entities, to implement the project on a region-wide basis.

5. Outcomes (15 Points)

The applicant must demonstrate a results-oriented approach to managing and operating the proposed project by fully describing the outcome categories and projected outcomes relevant to determining the success of the project. Scoring on this criterion will be based on the following factors:

Description of Outcomes (8 points): Applicants may earn up to 8 points for demonstrating that the outcome categories and projected outcomes for those categories have been identified. Applicants must address the two categories of outcomes described below—training and capacity building. In addition, applicants should include additional outcome categories, and projected outcomes for those categories, that would be appropriate for the project and/or individual strategies and are not covered by these two categories, if necessary. Applicants must include: (1) A description of the outcome category; and (2) a projected outcome.

• Training Outcomes. Applicants must provide projected outcomes for the entered employment rate, Adult Common Measure, for participants served with grant funds. Grantees must track outcomes for all three of ETA's Adult Common Measures (entered employment rate, employment retention rate, and average earnings) for these participants as well. In addition, applicants must also provide projections and track outcomes for each of the following categories for participants served with grant funds: total participants served; total number of participants beginning education/training activities; total number of participants completing education/training activities; total number of participants that complete education/training activities that receive a degree/certificate; total number of participants that complete education/training activities that enter employment; and total number of participants that complete education/training activities that enter training-related employment. Please note that applications that do not contain projections for all these categories cannot receive full points for this section. The required format and associated instructions that grantees will use to report their outcomes for these measures are available at http://www.doleta.gov/Performance/Guidance/wia.cfm#HGBIT, and provide grantees with additional information on all of the above referenced outcome categories. Applicants are strongly encouraged to review these instructions. Applicants must also identify the credential that participants will earn as a result of the proposed training, and the employer-, industry-, or state-defined standards associated with the credential. If the credential targeted by the training project is a certificate or performance-based certification, applicants should either (a) demonstrate employer engagement in the curriculum development process, or (b) indicate that the certification will translate into concrete job opportunities with an employer.

• Capacity Building Outcomes. Applicants must clearly describe all products, models, curricula, etc. that will be developed or acquired with grant funds. When applicants propose to use grant funds to develop curricula, instructional and course materials, and other types of deliverables, applicants must demonstrate that substantial research has been conducted to ensure that the proposed workforce solutions are not duplicative of existing materials. Applicants must conduct a thorough review of existing curricula, instructional and course materials, and other types of products that are available through and contained on ETA's Workforce³One Web site. (A copy of the Workforce Solutions Catalogue may be downloaded from Workforce³One at: http://www.workforce3one.org/wfsolutions/). In addition, applicants should also examine other sources that may have the types of materials that the applicant would like to use grant funds to develop. For example, if the grantee is interested in developing curricula there are a growing number of resources that house curricula in addition to ETA's Workforce³One Web site such as: the U.S. Department of Education's Web site at http://www.free.ed.gov; Curriki, a compendium of open source curricula and other learning objects at http://www.curriki.org; and OpenCourseWare Consortium at http://www.opencoursewareconsortium.org. Industry association Web sites may also be a source of training materials. In their proposal, applicants should describe their research process for ensuring that the proposed workforce solutions are not duplicative of existing materials, including the specific sources that they researched, and indicate how the deliverables that they propose to develop differ from those materials that already exist. Finally, applicants should outline plans for having deliverables reviewed by an independent expert.

Applicants must also indicate the impact of capacity building activities (i.e., the number of participants or entities who will benefit from proposed activities) provided with grant funds, where appropriate. All applicants must include projections and track outcomes (as applicable) for the number of instructors who will participate in capacity building activities; the number of students trained by those instructors; and the number of other people participating and/or benefitting from capacity building activities. Applicants must also describe the methodology for determining the impact of their capacity building activities.

• Additional Outcomes. Beyond the training and capacity building outcome categories described above, applicants should also identify outcome categories and projected outcomes for any strategies to be undertaken through the project if their impact cannot be fully reported through the outcome categories above. These additional categories should reflect the unique attributes of the applicant's strategies. For example, applicants including entrepreneurial training for older individuals in their project could identify a projected outcome for the number of those individuals who start their own businesses. As another example, applicants planning to implement career awareness activities could identify projected outcomes for the number of people who participate in these activities. This could include the number of individuals attending a recruitment seminar, the number of user sessions on a Web site, or the number of individuals who were provided career awareness materials at an industry-related career awareness program.

Appropriateness of outcomes (7 points): Applicants may earn up to 7 points based on three factors: (1) The extent to which the projected outcomes are clearly identified and measurable, realistic and consistent with the objectives of the project; (2) the ability of the applicant to achieve the stated outcomes within the timeframe of the grant; and (3) the appropriateness of the outcomes with respect to both the extent of the workforce challenge described in the statement of need and the requested level of funding.

6. Program Management and Organizational Capacity (10 Points)

To satisfy this criterion, applicants must describe their proposed project management structure and organizational capacity including: (1) Clear identification of key personnel, their qualifications, an overall staffing pattern (with estimated time commitments for each key staff); and (2) justification that the applicant organization has significant capacity to accomplish the goals and outcomes of the project. Scoring for this criterion will be based on the following factors:

Project Staff (4 points). Applicants should identify key personnel, their roles in the proposed project, and their qualifications to accomplish the tasks associated with their assigned role(s). This should include the identification of a proposed project manager and a staffing pattern. The roles of staff and consultants, if applicable, should be clearly defined and linked to specific tasks. Applicants should also identify the percentage of time each person will commit to the project and ensure that it is sufficient to provide proper direction, management and timely completion of the project. An organizational chart may be included.

Organizational Capacity (6 points). Applicants should illustrate their organization's capacity to accomplish the goals and outcomes of the proposed project. This includes:

• A discussion of the applicant's capacity to accomplish the goals and outcomes of the project.

• A discussion of applicant's demonstrated fiscal and administrative capacity.

• A discussion of the applicant's ability to successfully lead and manage the partners and ensure there will be integration among the individual project components.

• A description of the applicant's ability to collect, manage, and report data in a way that allows consistent, accurate, and expedient reporting. Applicants should be aware that ETA has modified an existing software system to help grantees collect and report the performance data that is required by this grant, and expects to make this system available to grantees at no cost. Applicants' response to this section of the evaluation criteria could reference the use of this software system.

• A detailed description of the applicant's experience in implementing projects similar to the one being proposed and/or related activities of the primary partners.

7. Dissemination, Sustainability and Replicability (10 Points)

The applicant must describe how the project's models, findings, and products will be disseminated to and through the workforce system, as well as other entities; what aspects of the project will be sustained beyond the life of the grant through the workforce system; and how the project can be replicated and adapted to address the employment and training needs of older workers and their employers across multiple regions and industries. Scoring for this criterion will be based on the following factors:

Dissemination strategies (3 points). Applicants should identify specific dissemination strategies they will employ and indicate how they will foster replication of the project. These dissemination strategies would be in addition to those undertaken by ETA, as described in Part III(D). This could include innovative approaches, as well as more traditional modes such as conference presentations, Webinars and other events, technical assistance guides, peer-reviewed or trade publication articles, and other documents. Applicants should include a list of specific dissemination mechanisms available to them which are appropriate for this project.

Sustainability plan (4 points). Specific plans illustrating how the project will be sustained through the workforce system after the grant period has ended should be provided. Applicants should explain how partners will continue to contribute to the project, how leveraged resources will be maintained, and how other potential resources may be used to sustain the project on a region-wide basis.

Replicability (3 points). Applicants should identify the specific aspects of their project which allow it to be replicated across multiple industries and regions. They should explicitly discuss whether or not the challenges addressed by their project are common to other industries and regions, if the participant skills developed by the project are based on general standards, and what products will be created that can be used broadly by other organizations.

B. Review and Selection Process

Applications for the grants under this solicitation will be accepted after the publication of this announcement until the closing date. A technical review panel will conduct a careful evaluation of applications against the criteria. These criteria are based on the policy goals, priorities, and emphases set forth in this solicitation. Up to 100 points may be awarded to an application, based on the required information described in Part V(A). The ranked scores will serve as the primary basis for selection of applications for funding, in conjunction with other factors such as urban, rural, and geographic balance; balance across industries and economic sectors; the availability of funds; and which proposals are most advantageous to the government. The panel results are advisory in nature and not binding on the Grant Officer, and the Grant Officer may consider any information that comes to his/her attention. The government may elect to award the grant(s) with or without discussions with the applicants. Should a grant be awarded without discussions, the award will be based on the applicant's signature on the SF 424, which constitutes a binding offer by the applicant including electronic signature via E-Authentication on http://www.grants.gov.

Part VI. Award Administration Information

A. Award Notices

All award notifications will be posted on the ETA Web site (http://www.doleta.gov). Applicants selected for award will be contacted directly before the grant's execution. Applicants not selected for award will be notified by mail.

Note: Selection of an organization as a grantee does not constitute approval of the grant application as submitted. Before the actual grant is awarded, ETA may enter into negotiations about such items as program components, allowable activities, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this solicitation will be subject to the following administrative standards and provisions:

a. Non-Profit Organizations—OMB Circulars A-122 (Cost Principles) and 29 CFR Part 95 (Administrative Requirements).

b. Educational Institutions—OMB Circulars A-21 (Cost Principles) and 29 CFR Part 95 (Administrative Requirements).

c. State and Local Governments—OMB Circulars A-87 (Cost Principles) and 29 CFR Part 97 (Administrative Requirements).

d. Profit Making Commercial Firms—Federal Acquisition Regulation (FAR)—48 CFR Part 31 (Cost Principles), and 29 CFR Part 95 (Administrative Requirements).

e. All entities must comply with 29 CFR Parts 93 and 98, and, where applicable, 29 CFR Parts 96 and 99.

f. 29 CFR part 2, subpart D—Equal Treatment in Department of Labor Programs for Religious Organizations, Protection of Religious Liberty of Department of Labor Social Service Providers and Beneficiaries.

g. 29 CFR part 31—Nondiscrimination in Federally Assisted Programs of the Department of Labor—Effectuation of Title VI of the Civil Rights Act of 1964.

h. 29 CFR part 32—Nondiscrimination on the Basis of Handicap in Programs and Activities Receiving or Benefiting from Federal Financial Assistance.

i. 29 CFR part 33—Enforcement of Nondiscrimination on the Basis of Handicap in Programs or Activities Conducted by the Department of Labor.

j. 29 CFR part 35—Nondiscrimination on the Basis of Age in Programs or Activities Receiving Federal Financial Assistance from the Department of Labor.

k. 29 CFR part 36—Nondiscrimination on the Basis of Sex in Education Programs or Activities Receiving Federal Financial Assistance.

The following administrative standards and provisions may be applicable:

a. Workforce Investment Act—20 Code of Federal Regulations (CFR) Part 667 (General Fiscal and Administrative Rules).

b. 29 CFR part 30—Equal Employment Opportunity in Apprenticeship and Training; and

c. 29 CFR part 37—Implementation of the Nondiscrimination and Equal Opportunity Provisions of the Workforce Investment Act of 1998.

In accordance with Section 18 of the Lobbying Disclosure Act of 1995 (Pub. L. 104-65) (2 U.S.C. 1611) non-profit entities incorporated under Internal Revenue Service Code section 501(c)(4) that engage in lobbying activities are not eligible to receive federal funds and grants.

Note: Except as specifically provided in this solicitation, ETA's acceptance of a proposal and an award of federal funds to sponsor any program(s) does not provide a waiver of any grant requirements and/or procedures. For example, OMB Circulars require that an entity's procurement procedures must ensure that all procurement transactions are conducted, as much as practical, to provide open and free competition. If a proposal identifies a specific entity to provide services, ETA's award does not provide the justification or basis to sole source the procurement, i.e., avoid competition, unless the activity is regarded as the primary work of an official partner to the application.

C. Evaluation

ETA requires that the project participate in an evaluation of overall performance. To measure the impact of the Older Worker Demonstration, ETA will arrange for or conduct an independent evaluation of the outcomes and benefits of the projects. Grantees must make records and data on participants, employers and funding available, and provide access to project operating personnel and participants, as specified by the evaluator(s) under the direction of ETA, including after the expiration date of the grant. Further information regarding the evaluation requirements will be detailed in the grant agreements.

D. Reporting

The grantee is required to provide the reports and documents listed below:

1. Quarterly Financial Reports

A Quarterly Financial Status Report (SF 9130) is required until such time as all funds have been expended or the grant period has expired. Quarterly reports are due 45 days after the end of each calendar year quarter, including the last calendar quarter of the grant period. Grantees must use ETA's On-Line Electronic Reporting System. A Closeout Financial Status Report is due 90 days after the end of the grant period.

2. Quarterly Progress Reports

Grantees must submit a Quarterly Performance Report to ETA no later than 45 days after the end of each calendar year quarter. The Quarterly Performance Report is explained in further detail in a standard set of reporting requirements issued by ETA for HGJTI grants, which can be accessed at: http://www.doleta.gov/performance/reporting.

3. Final Report

A final report must be submitted no later than 60 days after the expiration date of the grant. This report must summarize project activities, provide project outcomes, and thoroughly document the training and related strategies and approaches of the project. The final report should also include copies of any deliverables developed with grant funds, such as curricula and competency models. Three copies of the final report must be submitted to ETA and grantees must agree to use a designated format specified by ETA for preparing the final report.

E. Record Retention

Applicants should be aware of Federal guidelines on record retention, which require grantees to maintain all records pertaining to grant activities for a period of not less than three years from the time of final grant close-out.

Part VII. Agency Contacts

For further information regarding this solicitation, please contact Melissa Abdullah, Grants Management Specialist, at (202) 693-3346 (this is not a toll free number). Applicants should fax all technical questions to (202) 693-2705 and must specifically address the fax to the attention of Melissa Abdullah and should reference SGA/DFA PY 08-06 and include a contact name and fax and phone numbers. This announcement is also being made available on the ETA Web site at http://www.doleta.gov/grants/find_grants.cfm and at http://www.grants.gov.

Part VIII. Resources and Other Information

A. Resources for the Applicant

DOL/ETA maintains a number of Web-based resources that may be of assistance to applicants.

• The ETA Web site is a valuable source for background information on the HGJTI and WIRED Initiative. (http://www.doleta.gov)

• The Workforce³One Web site is a valuable resource for information about demand-driven projects of the workforce investment system, educators, employers, and economic development representatives. Additionally, current HGJTI grantees are posting their deliverables on this Web site. (http://www.workforce3one.org)

• America's Service Locator provides a directory of the nation's One-Stop Career Centers. (http://www.servicelocator.org)

• Applicants are encouraged to review “Help with Solicitation for Grant Applications.” (http://www.dol.gov/cfbci/sgabrochure.htm)

• For a basic understanding of the grants process and basic responsibilities of receiving federal grant support, please see “Guidance for Faith-Based and Community Organizations on Partnering with the Federal Government.” (http://www.whitehouse.gov/government/fbci/guidance/index.html)

B. Other Information

OMB Information Collection No. 1225-0086. Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the Office of Information and Regulatory Affairs, OMB Desk Officer for ETA, Office of Management and Budget, Room 10235, Washington, DC 20503. Please do not return the completed application to the OMB. Send it to the sponsoring agency as specified in this solicitation.

This information is being collected for the purpose of awarding a grant. The information collected through this solicitation will be used by DOL to ensure that grants are awarded to the applicant best suited to perform the functions of the grant. Submission of this information is required in order for the applicant to be considered for award of this grant. Unless otherwise specifically noted in this announcement, information submitted in the respondent's application is not considered to be confidential.

The Grant Officer for this procurement will be Marsha G. Daniels; if you need additional information contact the Grants Management Specialist, Melissa Abdullah, at (202) 693-3346 (this is not a toll free number).

Signed at Washington, DC, this 12th day of December 2008.
James Stockton,
Grant Officer.

Attachment: H-1B Industry Sectors and Occupations

A. Industry Sectors

1. Information Technology:

• Computer Systems Design and Related Services.

• Software Development/Software Publishers.

• Data Processing Services.

• Information Services.

2. Telecommunications.

3. Scientific Research and Development Services (including biotechnology).

4. Scientific and Technical Consulting (including biotechnology).

5. Architecture, Engineering, Surveying.

6. Specialized Design Services.

7. Construction/Skilled Trades.

8. Finance, Insurance and Real Estate and Administrative Support Services:

• Accounting, Tax Preparation, Bookkeeping and Payroll Services.

• Financial Investment.

• Securities and Commodity Brokerage/Contracts.

• Business Support Services.

• Insurance Carriers, Agencies, Brokerages, and Insurance and Employee Benefit Funds.

• Credit Intermediation.

9. Advanced Manufacturing:

• Semiconductor and Other Electronic Component Manufacturing.

• Computer, Electronic Product, and Peripheral Equipment Manufacturing.

• Pharmaceutical and Medicine Manufacturing.

• Communications Equipment Manufacturing.

• Navigational, Measuring, Electromedical, and Control Instruments Manufacturing.

• Industrial Machinery Manufacturing.

• Aerospace Manufacturing.

• Chemical and Petrochemical Manufacturing.

• Motor Vehicle and Parts Manufacturing.

• Medical Equipment and Supplies Manufacturing.

• Metalworking Manufacturing.

• Food Manufacturing.

• Other Miscellaneous Manufacturing.

10. Automotive Repair/Maintenance.

11. Health Care:

• General Medical and Surgical Hospitals and Other Hospitals.

• Offices of Physicians.

• Offices of Dentists.

• Offices of Other Health Practitioners.

• Medical and Diagnostic Laboratories.

• Nursing and Residential Care Facilities.

• Home Health Care Services.

12. Energy:

• Electric Power Generation, Transmission, and Distribution.

• Oil and Gas Extraction, Refining, and Production.

• Mining and Support Activities for Mining.

• Pipeline Transportation.

13. Transportation:

• Air Transportation.

• Freight and Truck Transportation.

• Water Transportation.

• Transportation Support.

B. Cross-Cutting Occupations

1. Computer Related Occupations:

• Systems Analysis and Programming.

• Data Communications and Networks.

• Computer Systems Technical Support.

• Computer Systems User Support.

2. Engineering and Related Technical Occupations:

• Aeronautical.

• Electrical.

• Civil.

• Ceramic.

• Mechanical.

• Chemical.

• Mining and Petroleum.

• Metallurgy and Metallurgical.

• Industrial.

• Agricultural.

• Marine.

• Nuclear.

• Drafters.

• Surveying/Cartographic.

• Architectural.

3. Occupations in Mathematics and Physical Sciences:

• Mathematics.

• Astronomy.

• Chemistry.

• Physics.

• Geology.

• Meteorology.

4. Occupations in Life Sciences:

• Agricultural Sciences.

• Biological Sciences.

5. Occupations in Medicine and Health:

• Physicians/Surgeons.

• Osteopaths.

• Dentists.

• Veterinarians.

• Pharmacists.

• Registered Nurses.

• Therapists.

• Dieticians.

• Medical and Dental Technology.

• Other Health Care Practitioners.

6. Occupations in Financial and Administrative Fields:

• Accountants/Auditors.

• Bookkeepers/Payroll Services.

• Budget and Management Systems Analysis.

• Finance, Insurance, and Real Estate Management.

• Purchasing Managers.

• Agents/Appraisers.

7. Technology Related Occupations:

• Process Technicians.

• Mechanics/Mechanical Engineering Technicians.

[FR Doc. E8-30116 Filed 12-18-08; 8:45 am]

BILLING CODE 4510-FN-P